DEPARTMENT OF DEFENSE

Office of the Secretary

[Docket ID: DoD-2010-HA-0134]

Proposed Collection; Comment Request

AGENCY: Uniformed Services University of the Health Sciences, Graduate School of Nursing, DoD.

ACTION: Notice.

SUMMARY: In compliance with Section 3506 (c)(2)(A) of the Paperwork Reduction Act of 1995, the Uniformed Services University of the Health Sciences proposes a new public information collection. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by November 29, 2010.

ADDRESSES: You may submit comments, identified by docket number and title, by any of the following methods:

• Federal eRulemaking Portal: http://www.regulations.gov. Follow the instructions for submitting comments.

• Mail: Federal Docket Management System Office, 1160 Defense Pentagon, Room 3C843, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please contact Sandra C. Garmon Bibb, DNSc, RN, Department of Health Systems, Risk and Contingency Management, Graduate School of Nursing, Uniformed Services University of the Health Sciences; (301) 295-1206.

Title; Associated Form; and OMB Number: Military Nurse Recruitment Surveys; OMB Control Number 0720-TBD.

Needs and Uses: The information collection requirement is necessary to obtain and assess the willingness of potential student populations to consider accepting an undergraduate nursing education in return for a commission as a nurse officer in the Armed Forces with a required service obligation.

Affected Public: Individuals or households.

Annual Burden Hours: 1,000 hours.

Number of Respondents: 4,000 (2,000 non-nursing students and 2,000 nursing students).

Responses per Respondent: 1.

Average Burden per Response: 15 minutes.

Frequency: One time.

SUPPLEMENTARY INFORMATION:

Summary of Information Collection

Respondents are students in nursing school programs, or attending institutions where nursing school programs are offered; possibly to include qualified applicants who are not accepted for admission due to space limitations.

The United States healthcare system is facing an acute nursing shortage of unprecedented magnitude. This shortage is also affecting the Nursing Corps of the three military services. In this environment of a short supply of nurses, several initiatives are being explored to increase the number of nurses recruited annually by the military services. Data are needed for planning that will allow for an assessment of the potential impact of recruitment incentives on the receptiveness of targeted populations of likely future nurses and nursing students. In order to maintain the level of recruitment required by the military to maintain an adequate nursing workforce, a more thorough assessment of the future military nursing workforce is required. The national survey of young adults ages 18-40 will capture critical information on public perceptions of and interest in nursing and military careers and aid policy planning efforts to estimate available labor supply. The survey of nursing students enrolled in nursing programs throughout the US will provide critical data on the willingness of those with a demonstrated interest in nursing to consider a military nursing career.

Dated: September 10, 2010.
Patricia L. Toppings,
OSD Federal Register Liaison Officer, Department of Defense.

[FR Doc. 2010-24532 Filed 9-29-10; 8:45 am]

BILLING CODE 5001-06-P